ENVIRONMENTAL PROTECTION AGENCY

[FRL-7086-2]

Agency Information Collection Activities: Submission for OMB Review; Comment Request, Compliance Assurance Monitoring Program Information Collection Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Compliance Assurance Monitoring Program, 40 CFR part 64, OMB Control Number 2060-0376, expiration date September 30, 2001. The ICR describes the nature of the information collection and its expected burden and cost; where appropriate, it includes the actual data collection instrument.

DATES: Comments must be submitted on or before November 19, 2001.

ADDRESSES: Send comments, referencing EPA ICR No. 1663.03 and OMB Control No. 2060-0376, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-Mail at auby.susan@epamail.epa.gov or download off the Internet at http://www.epa.gov/icr and refer to EPA ICR No. 1663.03. For technical questions about the ICR contact Barrett Parker at (919)-541-5635.

SUPPLEMENTARY INFORMATION:

Title

Compliance Assurance Monitoring Program, OMB Control Number 2060-0376, EPA ICR Number 1663.03, expiration date September 30, 2001. This is a request for extension of a currently approved collection.

Abstract

The Clean Air Act contains several provisions directing us to require owners or operators to conduct monitoring and to certify that they are complying with applicable requirements. These provisions are set forth in both title V (operating permits provisions) and section 114 of title I (enforcement provisions) of the Act. Title V directs us to implement monitoring certification requirements through the operating permits program. Section 504(b) of the Act allows us to prescribe by rule, methods and procedures for determining compliance and states that continuous emission monitoring systems need not be required if other methods or procedures provide sufficiently reliable and timely information for determining compliance. Under section 504(c), each operating permit must “set forth inspection, entry, monitoring, compliance, certification, and reporting requirements to assure compliance with the permit terms and conditions.” Section 114(a)(3) requires us to promulgate rules on enhanced monitoring and compliance certifications. Section 114(a)(1) of the Act provides additional authority concerning monitoring, reporting, and recordkeeping requirements. That section provides the Administrator with the authority to require any owner or operator of a source to install and operate monitoring systems and to record the resulting monitoring data. Regulations to implement these authorities were promulgated at 62 FR 54900 (October 22, 1997). In accordance with section 503(e) of the Act, monitoring information to be submitted by source owners and operators as part of their monitoring reports and compliance certifications shall be available to the public, except as entitled to protection from disclosure as allowed in section 114(c) of the Act.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 26, 2001, (66 FR 20987); no comments were received.

Burden Statement

The annual public reporting and recordkeeping burden for this collection of information is estimated to average 43 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owner/operators of Title V sources, CAM Rule.

Estimated Number of Respondents: 2,020.

Frequency of Response: On occasion, Semi-annually.

Estimated Total Annual Hour Burden: 172,698.

Estimated Total Annualized Capital, O&M Cost Burden: $9,699,000.

Send comments on the Agency's need for this information, the accuracy of the provided burden estimates, and any suggested methods for minimizing respondent burden, including through the use of automated collection techniques to the addresses listed above. Please refer to EPA ICR No. 1663.03 and OMB Control No. 2060-0376 in any correspondence.

Dated: September 26, 2001.
Oscar Morales,
Director, Collection Strategies Division.

[FR Doc. 01-26266 Filed 10-17-01; 8:45 am]

BILLING CODE 6560-50-P